DEPARTMENT OF HEALTH AND HUMAN SERVICES

Centers for Medicare and Medicaid Services

[Document Identifier: CMS-2786M, R, and S-Y, CMS-10097, CMS-R-204, CMS-9044, CMS-P-0015A, CMS-R-13]

Agency Information Collection Activities: Submission for OMB Review; Comment Request

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Fire Safety Survey Report Forms and Supporting Regulations in 42 CFR 488.26 and 442.30; Form No.: CMS-2786 M, R, and S-Y (OMB# 0938-0242); Use: CMS surveys facilities to determine compliance with the Life Safety Code of 2000. The providers must make documentation proving compliance available to the surveyors; Frequency: Annually; Affected Public: Business or other for-profit, not-for-profit institutions; Number of Respondents: 27,900; Total Annual Responses: 27,900; Total Annual Hours: 2325.

2. Type of Information Collection Request: New collection; Title of Information Collection: Medicare Contractor Provider Satisfaction Survey; Form No.: CMS-10097 (OMB# 0938-NEW); Use: CMS needs standard data about Medicare provider's satisfaction with their Medicare contractors, who are charged with all Medicare claims processing and related activities on behalf of the Agency. Respondents will be staff representatives of hospitals, skilled nursing facilities, rural health clinics, home health agencies, end-stage renal disease clinics, physicians, non-physicians, durable medical equipment suppliers, laboratories and ambulance providers. The survey will be used as a mechanism for evaluating and improving Medicare providers' satisfaction with their Medicare contractors. The results will provide CMS with a comprehensive review of contractor-provider business relations from the perspective of the “customer” or provider. The information will help the Agency appropriately address provider concerns about Medicare Contractors' performance, aid in business/contracting decisions, and assist or guide contractors in identifying/implementing “best practices” or quality improvement initiatives.; Frequency: On occasion; Affected Public: Business or other for-profit and not-for-profit institutions; Number of Respondents: 6,052; Total Annual Responses: 6,052; Total Annual Hours: 3,331.

3. Type of Information Collection Request: Revision of a currently approved collection; Title of Information Collection: Data Collection for the Second Generation Social Health Maintenance Organization Demonstration; Form No.: CMS-R-204 (OMB# 0938-0709; Use: The Centers for Medicare and Medicaid Services will continue to use the data collected under this effort to support the operational needs of the Congressionally-mandated and administratively extended Second Generation of the Social Health Maintenance Organization Demonstration; Frequency: Annually; Affected Public: Individuals or households; Number of Respondents: 15,000; Total Annual Responses: 15,000; Total Annual Hours: 3,000.

4. Type of Information Collection Request: Extension of a currently approved collection; Title of Information Collection: Provider Reimbursement Manual, Part 1—Chapter 27, Sections 2721, 2722 and 2725, Request for Exception to End Stage Renal Disease Composite Rates and Supporting Regulations in 42 CFR 413.170 and 413.184; Form No.: CMS-9044 (OMB# 0938-0296); Use: This information collection describes the information End Stage Renal Disease facilities must submit in justifying an exception request to their composite rate for outpatient dialysis services; Frequency: On occasion; Affected Public: Business or other for-profit, not-for-profit institutions, and Federal government; Number of Respondents: 125; Total Annual Responses: 125; Total Annual Hours: 6,000.

5. Type of Information Collection Request: Extension of a currently approved collection; Title of Information Collection: Medicare Current Beneficiary Survey (MCBS): Rounds 38-46; Form No.: CMS-P-0015A (OMB# 0938-0568); Use: The MCBS is a continuous, multipurpose survey of a nationally representative sample of aged and disabled persons enrolled in Medicare. The survey provides a comprehensive source of information on beneficiary characteristics, needs, utilization, and satisfaction with Medicare-related activities; Frequency: Other: 3 times a year; Affected Public: Individuals or households, business or other for-profit, and not-for-profit institutions; Number of Respondents: 16,500; Total Annual Responses: 49,500; Total Annual Hours: 50,325.

6. Type of Information Collection Request: Revision of a currently approved collection; Title of Information Collection: Conditions of Coverage for Organ Procurement Organizations (OPOs) and Supporting Regulations in 42 CFR, Sections 486.304, 486.306, 486.307, 486.310, 486.316, 486.318, and 486.325; Form No.: CMS-R-13 (OMB# 0938-0688); Use: Organ Procurement Organizations are required to submit accurate data to CMS concerning population and information on donors and organs on an annual basis in order to assure maximum effectiveness in the procurement and distribution of organs; Frequency: Annually; Affected Public: Not-for-profit institutions; Number of Respondents: 59; Total Annual Responses: 59; Total Annual Hours: 118.

To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: January 8, 2004.
John P. Burke, III,
Paperwork Reduction Act Team Leader, CMS Reports Clearance Officer, Office of Strategic Operations and Strategic Affairs, Division of Regulations Development and Issuances.

[FR Doc. 04-983 Filed 1-15-04; 8:45 am]

BILLING CODE 4120-03-P